DEPARTMENT OF TRANSPORTATION

Federal Railroad Administration

[Docket Number FRA-2010-0152]

Petition for Waiver of Compliance

In accordance with Part 211 of Title 49 of the Code of Federal Regulations (CFR), this document provides the public notice that by a document dated March 9, 2011, the National Railroad Passenger Corporation (Amtrak) has petitioned the Federal Railroad Administration (FRA) for a modification of the regulatory relief previously granted in Docket Number FRA-2010-0152. Specifically, by letter dated January 31, 2011, FRA granted Amtrak limited, conditional relief from the requirements of 49 CFR 240.117(e)(1)-(4), 240.305(a)(1)-(4), 240.305(a)(6), and 240.307 as applicable to a proposed Confidential Close Call Reporting System (C3RS) pilot project. As proposed by Amtrak in its initial waiver request and approved by FRA, the boundaries of the C3RS pilot project were defined to include certain portions of its facilities at the following nine locations: (1) South Hampton Street, Boston, MA; (2) New Haven Parcel G, New Haven, CT; (3) Sunnyside Yard, Long Island City, NY; (4) Penn Coach Yard and Race Street Engine House, Philadelphia, PA; (5) Washington, DC; (6) Miami, FL; (7) Los Angeles, CA, (8) Chicago, IL; and (9) Seattle, WA. For a more detailed description of the project's initial boundaries, see FRA's Notice of Petition for Waiver of Compliance published on November 2, 2010, 75 FR 67451. All relevant documents related to Amtrak's initial waiver request and FRA's decision letter responding to that request is available for review online at http://www.regulations.gov under the docket number referenced above.

With its petition dated March 9, 2011, Amtrak submitted to FRA “Amendment No. 1 to the Confidential Close Call Reporting System Implementing Memorandum of Understanding (C3RS/IMOU) dated May 11, 2010.” That Amendment to the C3RS/IMOU seeks to expand the boundaries of the C3RS project to include Amtrak's Oakland, CA yard, including “all yard tracks and mechanical facilities within limits to include the West Oakland Amtrak lead to the South Magnolia Amtrak lead.” A copy of the petition, as well as any written communications concerning the petition is available for review online at http://www.regulations.gov and in person at the Department of Transportation's Docket Operations Facility, 1200 New Jersey Ave., SE., W12-140, Washington, DC 20590. The Docket Operations Facility is open from 9 a.m. to 5 p.m., Monday through Friday, except Federal Holidays. If you do not have access to the Internet, please contact FRA's Docket Clerk at 202-493-6030 who will provide necessary information concerning the contents of the petition.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by May 16, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC on April 8, 2011.
Robert C. Lauby,
Deputy Associate Administrator for Regulatory & Legislative Operations.

[FR Doc. 2011-8960 Filed 4-13-11; 8:45 am]

BILLING CODE 4910-06-P